Title 3—

The President

Proclamation 7331 of July 21, 2000

Parents' Day, 2000

By the President of the United States of America

A Proclamation

Parents play a crucial role in shaping our lives and the life of our Nation. They nurture us as infants when we are unable to help ourselves, protect us as toddlers when we wander into trouble, encourage us as adolescents when we dream about the future, and guide us as adults as we face the challenges and opportunities of our own families and careers. It is through their care that we learn the invaluable lessons of love, family, and community; and it is through their selflessness that we come to understand the joy of making a difference in the life of another.

Throughout our Administration, Vice President Gore and I have strived to provide parents with the tools they need to meet their responsibilities. The Family and Medical Leave Act, which I signed in 1993, has allowed more than 20 million Americans to take up to 12 weeks of unpaid leave to care for a newborn or an ailing relative without fear of losing their job. We have also worked to make child care safer, better, and more affordable for millions of families, and we have expanded preschool and after-school programs to give parents more flexibility in balancing the demands of job and family. And we have worked hard for parents to make the dream of a college education for their sons and daughters a reality—with new HOPE scholarships, more work-study opportunities, higher Pell grants, and more affordable student loans.

Parenting is a lifetime commitment and a lifetime challenge—it involves balancing the demands of family, friends, career, and community. Yet parenting is also one of life's greatest gifts. To hold one's sleeping baby, watch one's children take their first tottering steps and hear them say their first words, boast with pride about their first home run or first music recital, and witness firsthand their journey into adulthood—these are some of the most precious rewards of parenthood.

Only when we pass from childhood to adulthood can we appreciate the value of our parents and the extent of their sacrifices. For these, we owe our parents—whether biological or adoptive, stepparents or foster parents— a profound debt of gratitude. On Parents' Day and throughout the year, let us pay tribute to America's parents, whose unconditional love and constant devotion have helped create a bright future for the next generation.

NOW, THEREFORE, I, WILLIAM J. CLINTON, President of the United States of America, by virtue of the authority vested in me by the Constitution and laws of the United States and consistent with Public Law 103-362, do hereby proclaim Sunday, July 23, 2000, as Parents' Day. I call upon all Americans to join together in observing this day with appropriate ceremonies and activities to honor our Nation's parents.

IN WITNESS WHEREOF, I have hereunto set my hand this twenty-first day of July, in the year of our Lord two thousand, and of the Independence of the United States of America the two hundred and twenty-fifth.

wj

[FR Doc. 00-18914

Filed 7-24-00; 8:45 am]

Billing code 3195-01-P